INTERNATIONAL TRADE COMMISSION

[Investigation Nos. 701-TA-469 and 731-TA-1168 (Second Review)]

Certain Seamless Carbon and Alloy Steel Standard, Line, and Pressure Pipe From China

Determinations

On the basis of the record ¹ developed in the subject five-year reviews, the United States International Trade Commission (“Commission”) determines, pursuant to the Tariff Act of 1930 (“the Act”), that revocation of the countervailing and antidumping duty orders on certain seamless carbon and alloy steel standard, line, and pressure pipe from China would be likely to lead to continuation or recurrence of material injury to an industry in the United States within a reasonably foreseeable time.

¹ The record is defined in § 207.2(f) of the Commission's Rules of Practice and Procedure (19 CFR 207.2(f)).

Background

The Commission instituted these reviews on February 1, 2021 (86 FR 7740) and determined on May 7, 2021 that it would conduct expedited reviews (86 FR 36771, July 13, 2021).

The Commission made these determinations pursuant to section 751(c) of the Act (19 U.S.C. 1675(c)). It completed and filed its determinations in these reviews on September 1, 2021. The views of the Commission are contained in USITC Publication 5229 (September 2021), entitled Certain Seamless Carbon and Alloy Steel Standard, Line, and Pressure Pipe from China: Investigation Nos. 701-TA-469 and 731-TA-1168 (Second Review).

By order of the Commission.
Issued: September 1, 2021.
Lisa Barton,
Secretary to the Commission.

[FR Doc. 2021-19310 Filed 9-7-21; 8:45 am]

BILLING CODE 7020-02-P